DEPARTMENT OF HEALTH AND HUMAN SERVICES

National Institutes of Health

Center for Scientific Review Amended Notice of Meeting

Notice is hereby given of a change in the meeting of the Center for Scientific Review Special Emphasis Panel, Fellowship: Infectious Diseases and Microbiology, March 23, 2020, 8:00 a.m. to March 24, 2020, 5:00 p.m., at The St. Gregory Hotel Dupont Circle, 2033 M St. NW, Washington, DC 20036 which was published in the Federal Register on February 25, 2020, 85 FR 10708.

The meeting location is being changed to National Institutes of Health, 6701 Rockledge Drive, Bethesda, MD. Meetings dates and times remain the same. The meeting is closed to the public.

Dated: March 11, 2020.
Ronald J. Livingston, Jr.,
Program Analyst, Office of Federal Advisory Committee Policy.

[FR Doc. 2020-05413 Filed 3-16-20; 8:45 am]

BILLING CODE 4140-01-P